DEPARTMENT OF HOMELAND SECURITY

Coast Guard

33 CFR Part 117

[CGD01-05-008]

Drawbridge Operation Regulations: Long Island, New York Inland Waterway From East Rockaway Inlet to Shinnecock Canal, NY

AGENCY: Coast Guard, DHS.

ACTION: Notice of temporary deviation.

SUMMARY: The Commander, First Coast Guard District, has issued a temporary deviation from the drawbridge operation regulations governing the operation of the Long Beach Bridge, at mile 4.7, across Reynolds Channel New York. This temporary deviation allows the bridge to remain in the closed position from February 21, 2005 through February 27, 2005. This temporary deviation is necessary to facilitate scheduled bridge maintenance.

DATES: This temporary deviation is effective from February 21, 2005 through February 27, 2005.

FOR FURTHER INFORMATION CONTACT: Judy Leung-Yee, Project Officer, First Coast Guard District, at (212) 668-7165.

SUPPLEMENTARY INFORMATION: The Long Beach Bridge has a vertical clearance of 20 feet at mean high water and 24 feet at mean low water. The existing regulations are listed at 33 CFR 117.799(g).

The bridge owner, Nassau County Department of Public Works, requested a temporary deviation for the Long Beach Bridge to facilitate scheduled maintenance repairs, gear rack repairs, at the bridge.

Under this temporary deviation the Long Beach Bridge need not open for vessel traffic from February 21, 2005 through February 27, 2005.

This deviation from the operating regulations is authorized under 33 CFR 117.35, and will be performed with all due speed in order to return the bridge to normal operation as soon as possible.

Dated: January 31, 2005.
Gary Kassof,
Bridge Program Manager, First Coast Guard District.

[FR Doc. 05-2557 Filed 2-9-05; 8:45 am]

BILLING CODE 4910-15-P